DEPARTMENT OF COMMERCE

National Oceanic and Atmospheric Administration

[I.D. 093004B]

Marine Mammals and Endangered Species; Files No. 782-1702 and 1409

AGENCY: National Marine Fisheries Service (NMFS), National Oceanic and Atmospheric Administration (NOAA), Commerce.

ACTION: Receipt of applications for amendments.

SUMMARY: Notice is hereby given that the following entities have requested an amendment to their scientific research permits:

Permit No. 782-1702: National Marine Mammal Laboratory (NMML), NMFS, 7600 Sand Point Way, NE, BIN C15700, Bldg. 1, Seattle, WA 98115-0070, (Dr. John Bengtson, Principal Investigator); and

Permit No. 1409: Karen G. Holloway-Adkins, East Coast Biologists, Inc., P.O. Box 33715, Indialantic, FL 32903-3715.

DATES: Written, telefaxed, or e-mail comments must be received on or before November 12, 2004.

ADDRESSES: The amendment requests and related documents are available for review upon written request or by appointment in the following office(s):

Permits, Conservation and Education Division, Office of Protected Resources, NMFS, 1315 East-West Highway, Room 13705, Silver Spring, MD 20910; phone (301)713-2289; fax (301)713-0376; and

Permit 782-1702: Northwest Region, NMFS, 7600 Sand Point Way NE, BIN C15700, Bldg. 1, Seattle, WA 98115-0700; phone (206)526-6150; fax (206)526-6426; and

Permit No. 1409: Assistant Regional Administrator for Protected Resources, Southeast Region, NMFS, 9721 Executive Center Drive North, St. Petersburg, FL 33702-2432; phone (727)570-5312, fax (727)570-5517.

Written comments or requests for a public hearing on these requests should be submitted to the Chief, Permits, Conservation and Education Division, F/PR1, Office of Protected Resources, NMFS, 1315 East-West Highway, Room 13705, Silver Spring, MD 20910. Those individuals requesting a hearing should set forth the specific reasons why a hearing on either of these particular amendment requests would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: Permit No. 782-1702 or Permit No. 1409.

FOR FURTHER INFORMATION CONTACT: Ruth Johnson, Amy Sloan or Patrick Opay (301)713-2289.

SUPPLEMENTARY INFORMATION: The subject amendments are requested under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Permit No. 782-1702 issued to the NMML authorizes the permit holder to capture harbor seals (Phoca vitulina), California sea lions (Zalophusu californianus), and northern elephant seals (Mirounga angustirostris) and to conduct the following activities: tag and brand for long-term identification of individuals and to obtain information on reproductive success, survival and longevity; blood sample for disease screening; blubber biopsy for contaminant analysis; tissue sample for genetic and fatty acid analyses; and attach electronic instruments to document movements, activity and foraging patterns. The Permit also authorizes up to five (5) accidental mortalities of California sea lions each year.

The permit holder has requested an amendment to the permit to increase the number of accidental mortalities of California sea lions from five to seven for the year spanning July 1, 2004 to June 30, 2005. The Permit expires June 30, 2008. During the 2004 summer field season California sea lions captured on a floating trap in the East Mooring Basin at Astoria, Oregon, were left unattended in the trap. When researchers returned to the capture site, five of the seven captured animals were dead or dying. The two remaining live animals were released. Apparently fighting among the animals caught in the trap resulted in the five deaths. The researchers maintain that this was unusual behavior, but to prevent this type of accident from occurring in the future the following mitigation measures will be included in the permit amendment, if issued: “On all future captures at least one person must remain in an attending vessel near the trap until all animals can be handled and released into the wild. Should there be future events of uncontrollable highly aggressive fighting among animals in the trap, the animals must be released immediately to preclude mortality of individual animals.”

Permit 1409 issued to Karen G. Holloway-Adkins authorizes take of 100 green sea turtles (Chelonia mydas) and 10 loggerhead sea turtles (Caretta caretta) annually for scientific research. Turtles are captured, handled, measured, weighed, flipper and PIT tagged, and lavaged. The purpose of the research is to characterize turtle aggregations using the nearshore reefs in central Brevard County, FL as developmental habitat, and to provide information on turtle size class, foraging habitats, and movements.

The permit holder has requested a modification to the permit to allow sonic tags to be attached to 15 green sea turtles, a subset of the turtles already authorized to be taken, to determine distribution and seasonal movements of turtles in nearshore reefs in Brevard County.

Concurrent with the publication of this notice in the Federal Register, NMFS is forwarding copies of the marine mammal application to the Marine Mammal Commission and its Committee of Scientific Advisors.

Dated: October 7, 2004.
Stephen L. Leathery,
Chief, Permits, Conservation and Education Division, Office of Protected Resources, National Marine Fisheries Service.

[FR Doc. 04-22939 Filed 10-12-04; 8:45 am]

BILLING CODE 3510-22-S